DEPARTMENT OF ENERGY

Federal Energy Regulatory Commission

[Project No. 11077-022 Alaska]

Goat Lake Hydro Inc.; Notice of Availability of Draft Environmental Assessment

July 23, 2002.

In accordance with the National Environmental Policy Act of 1969 and the Federal Energy Regulatory Commission's (Commission) regulations, 18 CFR Part 380 (Order No. 486, 52 F.R. 47897), the Office of Energy Projects has reviewed the application for amendment of the license for the Goat Lake Hydroelectric Project, located on Pitchfork Falls, near the town of Skagway, in the First Judicial District, Alaska, and has prepared a Draft Environmental Assessment (DEA) for the project. The project occupies lands of the Tongass National Forest.

The DEA contains the staff's analysis of the potential environmental impacts of modifications to the project and concludes that amending the license for the project, with appropriate environmental protective measures, would not constitute a major federal action that would significantly affect the quality of the human environment.

Copies of the DEA are available for review at the Commission's Public Reference Room, located at 888 First Street, NE., Washington, DC 20426, or by calling (202) 208-1371. The DEA may be viewed on the web at http://www.ferc.gov (call (202) 208-2222 for assistance).

Any comments should be filed within 30 days from the date of this notice and should be addressed to Magalie R. Salas, Secretary, Federal Energy Regulatory Commission, 888 First Street, NE., Washington, DC 20426. Please affix Project No. 11077-022 to all comments. Comments may be filed electronically via the internet in lieu of paper. See 18 CFR 385.2001(a)(1)(iii) and the instructions on the Commission's web site at http://www.ferc.gov.

For further information, contact Michael Henry at (503) 944-6762.

Linwood A. Watson, Jr.,
Deputy Secretary.

[FR Doc. 02-19040 Filed 7-26-02; 8:45 am]

BILLING CODE 6717-01-P